DEPARTMENT OF EDUCATION

[Docket No.: ED-2016-ICCD-0012]

Agency Information Collection Activities; Submission to the Office of Management and Budget for Review and Approval; Comment Request; Indian Education Professional Development Grants Program: GPRA and Service Payback Data Collection

AGENCY: Office of Elementary and Secondary Education (OESE), Department of Education (ED).

ACTION: Notice.

SUMMARY: In accordance with the Paperwork Reduction Act of 1995 (44 U.S.C. chapter 3501 et seq.), ED is proposing a revision of an existing information collection.

DATES: Interested persons are invited to submit comments on or before May 12, 2016.

ADDRESSES: To access and review all the documents related to the information collection listed in this notice, please use http://www.regulations.gov by searching the Docket ID number ED-2016-ICCD-0012. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-105, Washington, DC 20202-4537.

FOR FURTHER INFORMATION CONTACT: For specific questions related to collection activities, please contact John Cheek, 202-401-0274.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Indian Education Professional Development Grants Program: GPRA and Service Payback Data Collection.

OMB Control Number: 1810-0698.

Type of Review: A revision of an existing information collection.

Respondents/Affected Public: State, Local, and Tribal Governments.

Total Estimated Number of Annual Responses: 1,740.

Total Estimated Number of Annual Burden Hours: 2,728.

Abstract: The Indian Education Professional Development (IEPD) Grants program provides grants to prepare and train Indians (i.e., American Indians/Alaska Natives) to serve as teachers and administrators. The specific goals of the IEPD program are to: (1) Increase the number of qualified individuals in professions that serve American Indians/Alaska Natives; (2) provide training to qualified American Indians/Alaska Natives to become teachers, administrators, teacher aides, social workers, and ancillary education personnel; and (3) improve the skills of those qualified American Indians/Alaska Natives who already serve in these capacities. Individuals trained under this program must perform work related to their training and that benefits American Indian/Alaska Native people, or repay all or a prorated portion of the assistance received under the program.

This data collection serves three purposes: First, data from three sources (grantees, project participants, and employers) are necessary to assess the performance of the IEPD program on its Government Performance Results Act (GPRA) measures. Second, data from all three sources are necessary to determine if IEPD participants are fulfilling the terms of their service/cash payback requirements. Finally, budget and project-specific performance data are collected from IEPD grantees for project-monitoring and compliance information. The forms and protocols contained in this package include the Grantee Reporting Form, the Participant Training Information and Employment Reporting Form, and the Employment Verification Form.

Dated: April 7, 2016.
Stephanie Valentine,
Acting Director, Information Collection Clearance Division, Office of the Chief Privacy Officer, Office of Management.

[FR Doc. 2016-08347 Filed 4-11-16; 8:45 am]

BILLING CODE 4000-01-P